ENVIRONMENTAL PROTECTION AGENCY

[ER-FRL-6617-4]

Environmental Impact Statements and Regulations; Availability of EPA Comments

Availability of EPA comments prepared pursuant to the Environmental Review Process (ERP), under section 309 of the Clean Air Act and section 102(2)(c) of the National Environmental Policy Act as amended. Requests for copies of EPA comments can be directed to the Office of Federal Activities at (202) 564-7167. An explanation of the ratings assigned to draft environmental impact statements (EISs) was published in the Federal Register dated April 14, 2000 (65 FR 20157).

Draft EISs

ERP No. D-AFS-J65329-MT

Rating EC2, Maudlow—Toston Post-Fire Salvage Sale, Harvesting Burnt Timber, Implementation, Helena National Forest, Townsend Ranger District, Broadway County, MT.

Summary: The EPA expressed concerns about he limited range of alternatives analysis, the cumulative effects analysis, and the lack of information on project hydrologic/aquatics monitoring. The FEIS should address these issues and the needed mitigation measures.

ERP No. D-BLM-G70005-NM Rating LO,

Sierra and Otero Counties Resource Management Plan Amendment and Federal Fluid Minerals Leasing and Development, Implementation, Sierra and Otero Counties, NM.

Summary: EPA expressed lack of objections to the selection of the preferred alternative; however, EPA suggested that the final EIS include information on the pre-drilling analysis to be conducted before receiving permit approval as described in the application to drill (APD).

Final EISs

ERP No. F-BLM-K67051-NV, Marigold Mine Expansion Project, Implementation, COE Section 404 Permit, Special-Use-Permit, Humboldt County, NV.

Summary: EPA is pleased that mercury air emissions will be significantly lower than those estimated in the DEIS and that the preferred alternative reduces surface disturbance, including direct impacts to Trout Creek. However, EPA continues to express concerns that impacts to air water quality and mitigation measures remain unclear; and that the bond for closure and post-closure activities is not included in the FEIS for public review and that the project should additional control technology to reduce mercury emissions.

ERP No. F-COE-G11035-00, Programmatic—Fort Bliss Mission and Real Property Master Plan, Revised Land Use and Enhance Management of the Land, Airspace and Infrastructure, El Pasco County, TX and Dona Ana and Otero Counties, NM.

Summary: EPA has reviewed the FEIS and has no further comments to offer.

ERP No. F-COE-K40242-CA, Adoption—CA—125 South Route Location, Adoption and Construction, between CA-905 on Otay Mesa to CA-54 in Spring Valley, Funding and COE Section 404 Permit, San Diego County, CA.

Summary: The Army Corps of Engineers announced its intent to adopt the Federal Highway Administration's Final EIS for the project in connection with a Clean Water Act Section 404 permit application currently pending with the Corps. EPA believes it is incumbent upon the Corps to address the serious inadequacies identified by EPA in FHWA's FEIS, especially in providing an analysis of the potential environmental impacts associated with full build-out of the proposed arterial facilities and any projects that could not proceed “but for” the construction of State Route 125 South. As noted in EPA's comment letter to FHWA on its FEIS, EPA believes that the FEIS is fundamentally flawed in several major respects and thus does not provide full public disclosure under NEPA. To ensure that agencies and the public have an opportunity to consider the full range of the project's impacts (including indirect and cumulative impacts), EPA strongly recommends that the Corps circulate for public review and comment the Environmental Assessment (EA) being prepared in connection with the proposed Clean Water Act Section 404 permit action now pending with the Corps.

ERP No. F-UAF-G11039-TX, Brooks City Base Project, To Improve Mission Effectiveness and Reduce Cost of Quality Installation Support, Implementation, Brooks Air Force Base, Bexar County, TX.

Summary: EPA review of the FEIS finds that the document adequately responded to the our comments offered on the Draft Statement. EPA has no other comments to offer.

Dated: April 17, 2001.
Joseph C. Montgomery,
Director, NEPA Compliance Division, Office of Federal Activities.

[FR Doc. 01-9866 Filed 4-19-01; 8:45 am]

BILLING CODE 6560-50-U